DEPARTMENT OF ENERGY

Federal Energy Regulatory Commission

Combined Notice of Filings #1

January 10, 2006.

Take notice that the Commission received the following electric rate filings.

Docket Numbers: ER01-1807-015, 016, 017, 018; ER01-2020-012, 013, 014, 015.

Applicants: Carolina Power & Light Company. Florida Power Corporation.

Description: Carolina Power & Light Co. dba Progress Energy Carolina, Inc. submits an amended refund report reflecting the correct amounts for energy imbalance interest refunds pursuant to FERC's December 9, 2005 Order.

Filed Date: December 30, 2005.

Accession Number: 20060106-0148.

Comment Date: 5 p.m. Eastern Time on Friday, January 20, 2006.

Docket Numbers: ER02-2330-040.

Applicants: ISO New England Inc.

Description: ISO New England submits Independent Assessment of Demand Response Programs and impact evaluation and market assessment.

Filed Date: December 30, 2005.

Accession Number: 20060104-0261.

Comment Date: 5 p.m. Eastern Time on Friday, January 20, 2006.

Docket Numbers: ER05-487-002.

Applicants: FPL Energy Cowboy Wind, LLC.

Description: PL Energy Cowboy Wind, LLC submits notice of change in status including but not limited to ownership or control of generation facilities.

Filed Date: November 18, 2005.

Accession Number: 20051118-5138.

Comment Date: 5 p.m. Eastern Time on Thursday, January 19, 2006.

Docket Numbers: ER05-1221-003.

Applicants: Commonwealth Edison Company.

Description: Commonwealth Edison Co. submits a status report and request that it serve as an amendment to its pending Transmission Interconnection Agreement.

Filed Date: December 30, 2005.

Accession Number: 20060105-0147.

Comment Date: 5 p.m. Eastern Time on Friday, January 20, 2006.

Docket Numbers: ER06-190-001.

Applicants: Electric Energy, Inc.

Description: Electric Energy Inc. submits an amended and restated copy of the Power Contract which incorporates all changes to the Power Contract after September, 1987 which remained in effect as of January 1, 2003.

Filed Date: December 30, 2005.

Accession Number: 20060104-0262.

Comment Date: 5 p.m. Eastern Time on Friday, January 20, 2006.

Docket Numbers: ER06-263-001.

Applicants: Cleco Power LLC.

Description: Cleco Power LLC submits an errata to its November 30, 2005 letter.

Filed Date: December 30, 2005.

Accession Number: 20060104-0258.

Comment Date: 5 p.m. Eastern Time on Friday, January 20, 2006.

Docket Numbers: ER06-429-000.

Applicants: Florida Power Corporation.

Description: Florida Power Co. dba Progress Energy Florida, Inc submits revisions to their Open Access Transmission Tariffs, FERC Electric Tariff, Second Revised Volume No. 6, consistent with FERC's December 12, 2005 Order.

Filed Date: December 30, 2005.

Accession Number: 20060103-0008.

Comment Date: 5 p.m. Eastern Time on Friday, January 20, 2006.

Docket Numbers: ER06-430-000.

Applicants: Progress Energy Services Company, LLC.

Description: Progress Energy Service Co., LLC on behalf of Carolina Power & Light Co. submits Second Revised Sheet 433 et al to FERC Electric Tariff, Third Revised Volume No. 3 in compliance with Order 661-A, issued December 12, 2005.

Filed Date: December 30, 2005.

Accession Number: 20060103-0007.

Comment Date: 5 p.m. Eastern Time on Friday, January 20, 2006.

Docket Numbers: ER06-431-000.

Applicants: Progress Energy Services Company, LLC.

Description: Progress Energy Service on behalf of Florida Power Corp. amends Exhibit A of the revised Contract for interchange service with Reedy Creek Improvement District, First Revised Schedule No. 119.

Filed Date: December 30, 2005.

Accession Number: 20060103-0006.

Comment Date: 5 p.m. Eastern Time on Friday, January 20, 2006.

Docket Numbers: ER06-432-000.

Applicants: Southwest Power Pool, Inc.

Description: Southwest Power Pool submits revisions to its Open Access Transmission Tariff consistent with Order 663.

Filed Date: December 30, 2005.

Accession Number: 20060103-0016.

Comment Date: 5 p.m. Eastern Time on Friday, January 20, 2006.

Docket Numbers: ER06-433-000.

Applicants: Midwest Independent Transmission System Operator, Inc.

Description: Midwest Independent Transmission System Operator, Inc. submits an unexecuted Large Generator Interconnection Agreement among Twin Creeks Wind, LLC and Midwest ISO.

Filed Date: December 30, 2005.

Accession Number: 20060103-0015.

Comment Date: 5 p.m. Eastern Time on Friday, January 20, 2006.

Docket Numbers: ER06-434-000.

Applicants: California Independent System Operator Corporation.

Description: California Independent System Operator Corp. submits an amendment to the Responsible Participating Transmission Owner Agreement with Pacific Gas & Electric Co.

Filed Date: December 30, 2005.

Accession Number: 20060103-0005.

Comment Date: 5 p.m. Eastern Time on Friday, January 20, 2006.

Docket Numbers: ER06-435-000.

Applicants: Midwest Independent Transmission System Operator, Inc.

Description: Midwest Independent Transmission System Operator, Inc. submits a Large Generator Interconnection Agreement with Great River Energy, Generation and Midwest ISO.

Filed Date: December 30, 2005.

Accession Number: 20060103-0014.

Comment Date: 5 p.m. Eastern Time on Friday, January 20, 2006.

Docket Numbers: ER06-436-000.

Applicants: Avista Corporation.

Description: Avista Corp. submits an unsigned pro-forma Network Integration Transmission Service Agreement with the Bonneville Power Administration.

Filed Date: December 30, 2005.

Accession Number: 20060103-0010.

Comment Date: 5 p.m. Eastern Time on Friday, January 20, 2006.

Docket Numbers: ER06-437-000-001.

Applicants: Entergy Services, Inc.

Description: Entergy Services, Inc. on behalf of Entergy Arkansas, Inc. submits a Service Agreement providing for cost-based, short term, power sales to the City of Prescott, Arkansas and on January 4, 2006 submitted copies of signature page of executed service agreement.

Filed Date: December 30, 2005.

Accession Number: 20060103-0011.

Comment Date: 5 p.m. Eastern Time on Friday, January 20, 2006.

Docket Numbers: ER06-438-000.

Applicants: New England Power Pool.

Description: The New England Power Pool Participants Committee submits signature pages to the Agreement dated September 1, 1971 with CalBear Energy, LP, et al.

Filed Date: December 30, 2005.

Accession Number: 20060103-0012.

Comment Date: 5 p.m. Eastern Time on Friday, January 20, 2006.

Docket Numbers: ER06-439-000.

Applicants: Otter Tail Power Company.

Description: Otter Tail Power Co. submits Amendment to the Interconnection & Transmission Service Agreement with Minnkota Power Cooperative Inc.

Filed Date: December 30, 2005.

Accession Number: 20060105-0130.

Comment Date: 5 p.m. Eastern Time on Friday, January 20, 2006.

Docket Numbers: ER06-440-000.

Applicants: Electric Energy, Inc.

Description: Electric Energy, Inc.'s Modification No. 17 to a Power Contract dated September 2, 1987 with the Department of Energy designated as Contract DE-AC05-760R1312.

Filed Date: December 30, 2005.

Accession Number: 20060105-0105.

Comment Date: 5 p.m. Eastern Time on Friday, January 20, 2006.

Docket Numbers: ER06-441-000.

Applicants: Decatur Energy Center, LLC.

Description: Decatur Energy Center, LLC submits a proposed rate schedule under which it will have authority to make wholesale sales of electric energy, capacity, replacement reserves and certain ancillary services etc.

Filed Date: December 30, 2005.

Accession Number: 20060105-0064.

Comment Date: 5 p.m. Eastern Time on Friday, January 20, 2006.

Docket Numbers: ER06-442-000.

Applicants: Midwest Electric Power, Inc.

Description: Midwest Electric Power, Inc. submits a Power Supply Agreement dated December 21, 2005 with Electric Energy, Inc., effective January 1, 2006.

Filed Date: December 30, 2005.

Accession Number: 20060105-0063.

Comment Date: 5 p.m. Eastern Time on Friday, January 20, 2006.

Docket Numbers: ER06-443-000.

Applicants: Select Energy, Inc.

Description: Select Energy Inc., Northeast Utilities Service Co. et al submit a Notice of Amendments to Power Sales Agreements and Termination of Rate Schedules with Groveland Electric Light Department et al.

Filed Date: December 30, 2005.

Accession Number: 20060105-0062.

Comment Date: 5 p.m. Eastern Time on Friday, January 20, 2006.

Docket Numbers: ER06-444-000.

Applicants: Western Kentucky Energy Corp.; and LG&E Energy Marketing Inc.

Description: Application of Western Kentucky Energy Corp. & LG&E Energy Marketing, Inc. for approval of reassignment of Network Transmission Rights & Confirmation of Waviers & Blanket Authorizations.

Filed Date: December 30, 2005.

Accession Number: 20060105-0065.

Comment Date: 5 p.m. Eastern Time on Friday, January 20, 2006.

Docket Numbers: ER06-445-000.

Applicants: PJM Interconnection L.L.C.

Description: PJM Interconnection, LLC submits an executed Interconnection Service Agreement w/ Prime Energy Limited Partnership and PSE&G Services Corp.

Filed Date: December 30, 2005.

Accession Number: 20060105-0131.

Comment Date: 5 p.m. Eastern Time on Friday, January 20, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-483 Filed 1-18-06; 8:45 am]

BILLING CODE 6717-01-P